DEPARTMENT OF ENERGY

Federal Energy Regulatory Commission

[Docket No. RT01-34-000]

Southwest Power Pool, Inc.; Notice of Filing

October 20, 2000.

Take notice that on October 13, 2000, Southwest Power Pool, Inc. (SPP), tendered for filing a request for recognition as a Regional Transmission Organization (RTO). SPP states that the filing includes its Open Access Transmission Tariff revised to meet all of the RTO requirements of Order No. 2000.

The Applicants state that copies of the filing were served on all SPP members and customers, as well as on all state commissions within the region.

Any person desiring to be heard or to protest such filing should file a motion to intervene, comments, or protest with the Federal Energy Regulatory Commission, 888 First Street, NE., Washington, DC 20426, in accordance with Rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with Commission and are available for public inspection. This filing may also be viewed on the Internet at http://www.ferc.fed.us/online/rims.htm (call 202-208-2222 for assistance). Beginning November 1, 2000, comments and protests may be filed electronically via the internet in lieu of paper. See 18 CFR 385.2001(a)(1)(iii) and the instructions on the Commission's web site at http://www.ferc.fed.us/efi/doorbell.htm.

Linwood A. Watson, Jr.,
Acting Secretary.

[FR Doc. 00-27553 Filed 10-25-00; 8:45 am]

BILLING CODE 6717-01-M